ENVIRONMENTAL PROTECTION AGENCY

40 CFR Part 52

[EPA-R04-OAR-2005-FL-0002-200530(a); FRL-8246-2]

Approval and Promulgation of Implementation Plans Florida: Lockheed Martin Aeronautics Company

AGENCY: Environmental Protection Agency (EPA).

ACTION: Direct final rule.

SUMMARY: EPA is taking direct final action under section 110 of the Clean Air Act (CAA), 42 U.S.C. 7410, to approve a revision to the Florida State Implementation Plan (SIP) submitted by the Florida Department of Environmental Protection (FDEP) on June 8, 2005. The revision is source-specific to the Lockheed Martin Aeronautics Company (LM), located in Pinellas County, Florida, and regards that facility's compliance with Florida's Surface Coating of Miscellaneous Metal Parts and Products Reasonably Available Control Technology rule, found at Florida Administrative Code (F.A.C.) Rule 62-296.513 (FL MMPP Rule). The source-specific SIP revision seeks to allow LM to employ as reasonably available control technology (RACT) the control techniques outlined in EPA's December 1997, “Aerospace Control Technique Guidelines” (EPA's Aerospace CTG), instead of the RACT described in the FL MMPP Rule. The source-specific SIP revision is approvable because it meets the standards for approval described in section 110(l) of the CAA.

DATES: This direct final action is effective January 29, 2007 without further notice unless EPA receives adverse comment by December 28, 2006. If adverse comment is received, EPA will publish a timely withdrawal of the direct final action in the Federal Register and inform the public that the direct final action will not take effect.

ADDRESSES: Submit your comments, identified by Docket ID No. EPA-R04-OAR-2005-FL-0002, by one of the following methods:

1. http://www.regulations.gov: Follow the on-line instructions for submitting comments.

2. E-mail: hou.james@epa.gov.

3. Fax: (404) 562-9019.

4. Mail: “EPA-R04-OAR-2005-FL-0002,” Regulatory Development Section, Air Planning Branch, Air, Pesticides and Toxics Management Division, U.S. Environmental Protection Agency, Region 4, 61 Forsyth Street, SW., Atlanta, Georgia 30303-8960.

5. Hand Delivery or Courier: James Hou, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. “EPA-R04-OAR-2005-FL-0002.” EPA's policy is that all comments received will be included in the public docket without change and may be made available online at http://www.regulations.gov, including any personal information provided, unless the comment includes information claimed to be Confidential Business Information (CBI) or other information whose disclosure is restricted by statute. Do not submit through www.regulations.gov or e-mail, information that you consider to be CBI or otherwise protected. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available (i.e., CBI or other information whose disclosure is restricted by statute). Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that, if at all possible, you contact the person listed in the FOR FURTHER INFORMATION CONTACT section to schedule your inspection. The Regional Office's official hours of business are Monday through Friday, 8:30 to 4:30, excluding Federal holidays.

FOR FURTHER INFORMATION CONTACT: James Hou, Regulatory Development Section, Air Planning Branch, Air, Pesticides and Toxics Management Division, U.S. Environmental Protection Agency, Region 4, 61 Forsyth Street, SW., Atlanta, Georgia 30303-8960. The telephone number is (404) 562-8965. Mr. Hou can also be reached via electronic mail at hou.james@epa.gov.

SUPPLEMENTARY INFORMATION:

I. Background

The FL MMPP Rule describes specific RACT that is necessary to achieve the specified emission rates for volatile organic compounds (VOCs). Specifically, the Rule requires sources that apply surface coatings to any number of metal parts and products to limit their VOC emission rates. Consistent with the FL MMPP Rule, however, sources are exempt from regulation if they emit not more than 15 pounds in any one day and not more than three pounds in any one hour. F.A.C. Rule 62.296.500(3)(a). The FL MMPP Rule was incorporated into the Florida SIP on June 16, 1999 (64 FR 32346), and applies to a wide range of source categories, including aerospace manufacturing.

Section 183 of the Clean Air Act, 42 U.S.C. 7511b, “Federal ozone measures,” requires EPA to issue control techniques guidelines for categories of stationary sources of VOC emissions. Pursuant to section 183 of the CAA, in December 1997, EPA issued a control techniques guideline entitled, “Control of Volatile Organic Compound Emissions from Coating Operations at Aerospace Manufacturing and Rework Operations,” (EPA Publication No. EPA-453/R-97-004) (EPA's Aerospace CTG). The purpose of EPA's Aerospace CTG is to present feasible RACT control measures for VOC emissions from coatings and solvents used specifically in the aerospace industry. EPA has encouraged states to adopt EPA's Aerospace CTG as part of their regulations of VOC emissions from the aerospace industry. Although Florida has not yet revised its SIP to include EPA's Aerospace CTG for all aerospace manufacturers, it did submit a source-specific SIP revision on June 8, 2005, for LM's Pinellas County facility to utilize the RACT described in EPA's Aerospace CTG in lieu of the FL MMPP Rule, which is not specific to the aerospace industry.

LM produces aerospace parts and components, primarily in support of the manufacture and sustainability of military aircrafts. At the present time, the surface coating operations of LM are exempt from the FL MMPP Rule because its operations emit VOCs at lower rates than the minimum rates necessary to be regulated under that Rule. However, LM anticipates that it will increase production levels such that VOC emissions from surface coating operations in the near future would exceed the exemption criteria of the FL MMPP Rule, thus subjecting LM to the RACT requirements of the FL MMPP Rule. As will be discussed in greater detail below, the RACT described in EPA's Aerospace CTG is more detailed than the RACT required by the FL MMPP Rule because it focuses on specific aspects of the aerospace industry that result in VOC emissions. As a result, in the case of LM, the RACT described in EPA's Aerospace CTG is expected to be more effective than the RACT described in FL MMPP Rule for controlling emissions from LM's Pinellas County facility.

On June 8, 2005, FDEP submitted a source-specific SIP revision to EPA requiring the Pinellas County LM facility to comply with EPA's Aerospace CTG in lieu of the FL MMPP Rule. In essence, FL is requesting that EPA approve a SIP revision subjecting LM to the RACT described in EPA's Aerospace CTG. EPA is now taking direct final action to approve that revision into the Florida SIP.

II. Analysis of State's Submittal

As noted above, EPA has encouraged the adoption of its Aerospace CTG for the regulation of VOC emissions from the aerospace industry. This source-specific SIP revision, which would require that LM comply with EPA's Aerospace CTG in lieu of the FL MMPP Rule, is consistent with that policy.

As part of its review of this proposed SIP revision, EPA evaluated the proposed revision consistent with the standards described in section 110(l) of the CAA, “Plan revisions.” Section 110(l) specifies that EPA may not approve a revision of a plan if the revision would interfere with any applicable requirement concerning attainment of any of the National Ambient Air Quality Standards (NAAQS), or any other applicable requirements of the CAA. Because EPA's Aerospace CTG is specific to the aerospace industry, the applicable RACT is better suited than the FL MMPP Rule to control VOC emissions from that industry.

Both the FL MMPP Rule and EPA's Aerospace CTG describe “RACT;” however, the CTG describes specific RACT for the aerospace industry, and therefore, can provide more effective emissions control options for that industry. For example, the FL MMPP Rule describes RACT generally for primers and topcoats that are typically applied within a confined environment such as a paint booth. EPA's Aerospace CTG has greater detail and addresses RACT specifically for solvent cleaning operations, adhesive and sealant application, specialty coating materials that are not applied in a booth, and waste handling operations, among other situations. As a result, the RACT described in EPA's Aerospace CTG may be more stringent than the FL MMPP Rule because the FL MMPP Rule does not address all the specific situations applicable to the aerospace industry. According to data provided to EPA by LM, LM can reduce VOC emissions to a greater extent using EPA's Aerospace CTG RACT in lieu of the FL MMPP Rule RACT. In summary, LM's use of EPA's Aerospace CTG RACT is expected to result in at least equivalent controls, if not more stringent controls, than those imposed by the FL MMPP Rule. Additionally, on May 19, 2005, FDEP issued a federally enforceable minor-source air construction permit to the facility, limiting LM's total VOC emissions to 25 tpy, representing another limit on VOC emissions from this facility.

EPA has further determined that approving this source-specific SIP revision will not interfere with any applicable requirement concerning attainment and reasonable further progress or any other applicable requirement, as described in section 110(l) of the CAA due to the fact that this source-specific SIP revision will impose more stringent RACT on LM's facility than would otherwise be required under Florida Law. Based on the foregoing analysis, EPA has determined that the proposed source-specific revision to the Florida SIP is consistent with section 110(l) of the CAA, and is approvable.

III. Final Action

EPA is taking direct final action to approve a revision to the Florida SIP submitted by FDEP on June 8, 2005. The revision is source-specific to the LM facility located in Pinellas County, Florida, and regards that facility's use of RACT to control VOC emissions. Instead of following the RACT described in the FL MMPP Rule, the source-specific revision requires LM to comply with the RACT described in EPA's Aerospace CTG. EPA is publishing this direct final action without prior proposal because the Agency views this as a noncontroversial submittal and anticipates no adverse comments. However, in the proposed rules section of this Federal Register publication, EPA is publishing a separate document that will serve as the proposal to approve the SIP revision should adverse comments be filed. This direct final action will be effective January 29, 2007 without further notice unless the Agency receives adverse comments by December 28, 2006.

If the EPA receives adverse comments, then EPA will withdraw the direct final action and inform the public that the direct final action will not take effect. All public comments received will then be addressed in a subsequent final action based on the proposal. EPA will not institute a second comment period. Parties interested in commenting should do so at this time. If no such comments are received, the public is advised that this rule will be effective on January 29, 2007 and no further action will be taken on the proposed action.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the states, on the relationship between the national government and the states, or on the distribution of power and responsibilities among the various levels of government, as specified in Executive Order 13132 (64 FR 43255, August 10, 1999). This action merely approves state law as meeting Federal requirements and imposes no additional requirements beyond those imposed by state law. As a result, the action does not alter the relationship or the distribution of power and responsibilities established in the CAA. This rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 29, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Ozone, Particulate matter, Reporting and recordkeeping requirements, Volatile organic compounds.

Dated: November 6, 2006.
A. Stanley Meiburg,
Acting Regional Administrator, Region 4.

40 CFR part 52, is amended as follows:

PART 52—[AMENDED]

1. The authority citation for part 52 continues to read as follows:

Authority: 42 U.S.C. 7401 et seq.

Subpart K—Florida

2. Section 52.520(d) is amended by adding a new entry at the end of the table for “Lockheed Martin Aeronautics Company” to read as follows:

§ 52.520 Identification of plan.

* * * * *

(d) * * *

EPA Approved (State or County) Source-Specific Requirements
Name of source | Permit No. | State effective date | EPA approval date | Explanation
Lockheed Martin Aeronautics Company |  | 04/16/05 | 11/28/06 [Insert citation of publication] | Requirement that Lockheed Martin Aeronautics Company comply with EPA's Aerospace CTG at its Pinellas County facility.

* * * * *

[FR Doc. E6-20073 Filed 11-27-06; 8:45 am]

BILLING CODE 6560-50-P